DEPARTMENT OF COMMERCE

National Oceanic and Atmospheric Administration

[I.D. 030306E]

Marine Mammals; File No. 782-1812

AGENCY: National Marine Fisheries Service (NMFS), National Oceanic and Atmospheric Administration (NOAA), Commerce.

ACTION: Notice; receipt of application.

SUMMARY: Notice is hereby given that the NMFS, National Marine Mammal Laboratory (Principle Investigator: Dr. Robert DeLong), Alaska Fisheries Science Center, Seattle, WA has applied in due form for a permit to conduct research on California sea lions (Zalophus californianus), northern elephant seals (Mirounga angustirostris), harbor seals (Phoca vitulina), and northern fur seals (Callorhinus ursinus) on the southern California Channel Islands, surrounding waters, and at haul-out sites along the coast of California, Oregon, and Washington.

DATES: Written, telefaxed, or e-mail comments must be received on or before April 10, 2006.

ADDRESSES: The application and related documents are available for review upon written request or by appointment in the following offices:

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426; and

Southwest Region, NMFS, 501 West Ocean Blvd., Suite 4200, Long Beach, CA 90802-4213; phone (562)980-4001; fax (562)980-4018.

Written comments or requests for a public hearing on the application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments on the application may also be submitted by facsimile at (301)427-2521, provided the facsimile is confirmed by hard copy submitted by mail and postmarked no later than the closing date of the comment period.

In addition, comments on the application may be submitted by e-mail. The mailbox address for providing email comments is NMFS.Pr1Comments@noaa.gov. Include in the subject line of the e-mail comment the following document identifier: File No. 782-1812.

FOR FURTHER INFORMATION CONTACT: Andrew Wright or Tammy Adams, (301)713-2289.

SUPPLEMENTARY INFORMATION: The subject permit is requested under the authority of the Marine Mammal Protection Act of 1972, as amended (MMPA; 16 U.S.C. 1361 et seq.) and the Regulations Governing the Taking and Importing of Marine Mammals (50 CFR part 216).

The applicant, NMML, is requesting permission to conduct the following five research projects on four species of pinnipeds breeding in the California Channel Islands, and hauled-out along the coasts of California, Oregon and Washington: (1) Population and health assessment of California sea lions (CSL); (2) ecology of infectious diseases, environmental toxins, and contaminants in CSL; (3) age- and sex-specific partitioning of resources by CSL, harbor seals (HS), and northern elephant seals (NES); (4) evaluation of antihelminthic treatments on CSL and northern fur seals (NFS); and (5) evaluation of handling methods on CSL pups. The objectives are to: (1) Monitor trends in population parameters and health of CSL; (2) investigate the roles environmental toxins and contaminants play in the susceptibility to infectious diseases and the development of cancer in CSL; (3) investigate how the environmental factors that influence the foraging ecology of CSL, HS, and NES may affect their foraging distributions; (4) determine if antihelminthic treatments can increase survivorship in CSL and NFS pups; and (5) comparatively evaluate the effects of different combinations of handling techniques. Population assessment of CSL is a continuation of a long-term program designed to meet the needs of the NMFS mandate to monitor population health of pinnipeds. To achieve the objectives of the various research projects, the applicant has requested to harass, capture, sample (blood and various tissues), mark (by dye, flipper tag, neoprene patch, and hot brand), and attach instruments to individuals of all four species, and inject CSL and NFS pups with either an antihelminthic treatment or placebo. Please refer to the tables in the application for details of the numbers of marine mammals that would be affected by the various research activities. The applicant has also requested allowance for a limited number of mortalities of each species per year incidental to the research. The permit would expire 5 years after the date of issuance.

Concurrent with the publication of this notice in the Federal Register, NMFS is forwarding copies of this application to the Marine Mammal Commission and its Committee of Scientific Advisors.

Dated: March 6, 2006.
Stephen L. Leathery,
Chief, Permits, Conservation and Education Division, Office of Protected Resources, National Marine Fisheries Service.

[FR Doc. E6-3363 Filed 3-8-06; 8:45 am]

BILLING CODE 3510-22-S